DEPARTMENT OF THE INTERIOR

Bureau of Land Management

[NV-020-5101-ER-F347; N-78567, N-78568, N-78989]

Notice of Intent To Prepare an Environmental Impact Statement and To Initiate the Public Scoping Process for a Proposed Coal-Fired Power Plant

AGENCY: Bureau of Land Management, Interior.

ACTION: Notice of intent.

SUMMARY: Pursuant to section 102(2)(c) of the National Environmental Policy Act of 1969, and the Federal Land Policy and Management Act of 1976, notice is hereby given that the Winnemucca Field Office (WFO) of the Bureau of Land Management (BLM) is initiating the preparation of an Environmental Impact Statement (EIS) for a proposed coal-fired power plant.

DATES: The public scoping comment period will commence with the publication of this Notice, and will end on June 21, 2005. Public meetings will be announced through the local news media, and a BLM Web site at least 15 days prior to the event. Comments should be received on or before the end of the scoping period at the address listed below.

ADDRESSES: Written comments should be sent to the Winnemucca Field Office, Bureau of Land Management, 5100 East Winnemucca Boulevard, Winnemucca, Nevada 89445, via fax at (775) 623-1503 or online at: http://www.nv.blm.gov/winnemucca. Comments, including names and addresses of respondents will be available for public review at the BLM WFO, during regular hours 7:30 a.m.-4:30 p.m., Monday-Friday, except holidays. Individual respondents may request confidentiality. If you wish to withhold your name or street address from public review or from disclosure under the Freedom of Information Act, you must state this prominently at the beginning of your written comment. Such requests will be honored to the extent of the law. All submissions from organizations and businesses, and from individuals identifying themselves as representatives or officials of organizations or businesses, will be available for public inspection in their entirety.

FOR FURTHER INFORMATION CONTACT: For further information and/or to have your name added to our mailing list, contact Fred Holzel, Planning and Environmental Coordinator, Telephone (775) 623-1500.

SUPPLEMENTARY INFORMATION: The EIS will analyze a 1,450 megawatt coal-fired power plant, which is proposed by Granite-Fox Power LLC (GFP), to be located in rural northwest Nevada near the town of Gerlach, in Washoe County. Features in the area include the Smoke Creek Desert, the Black Rock-Desert High Rock Canyon Emigrant Trails National Conservation Area and associated wilderness areas, and five (5) wilderness study areas. U.S. Gypsum, a gypsum mine and wallboard facility, and the adjacent town of Empire, are located southeast of the proposed project. GFP's proposed project consists of the power plant to be located on private lands, with their ancillary facilities to be constructed on both private and public lands. Proposed power plant ancillary facilities include: Water supply, transport, and discharge facilities; waste disposal facilities; electric transmission lines; rail lines; and a temporary construction worker residence area. Three proposed rights-of-way would involve approximately 260 acres of public land. The Federal action comprises potential issuance of these public rights-of-way, which are necessary for the construction and operation of the power plant.

Although the proposed power plant would be located on private land, it could not operate without Federal actions for rights-of-way on public lands. The EIS will address potential impacts of the proposal on private and public lands. The proposed rights-of-way on public lands include approximately 7 miles of railroad spur, approximately 2 miles of 500 kilovolt transmission line, and approximately 26 miles of water supply pipelines. It also includes approximately 1 mile of ground electrode lines. A range of alternatives would be developed with input from the scoping process.

Dated: January 31, 2005.
Vicki L. Wood,
Acting Field Manager.

[FR Doc. 05-5454 Filed 4-21-05; 8:45 am]

BILLING CODE 4310-HC-P